SECURITIES AND EXCHANGE COMMISSION

[Release No. 34-79864; File No. SR-NYSEArca-2016-97]

Self-Regulatory Organizations; NYSE Arca, Inc.; Notice of Withdrawal of a Proposed Rule Change Relating to the Listing and Trading of Shares of the PowerShares Government Collateral Pledge Portfolio Under NYSE Arca Equities Rule 8.600

January 23, 2017.

On July 6, 2016, NYSE Arca, Inc. filed with the Securities and Exchange Commission (“Commission”), pursuant to Section 19(b)(1) of the Securities Exchange Act of 1934 (“Act”) ¹ and Rule 19b-4 thereunder,² a proposed rule change to list and trade shares of the PowerShares Government Collateral Pledge Portfolio. The proposed rule change was published for comment in the Federal Register on July 26, 2016.³ On September 1, 2016, pursuant to Section 19(b)(2) of the Act,⁴ the Commission designated a longer period within which to approve the proposed rule change, disapprove the proposed rule change, or institute proceedings to determine whether to disapprove the proposed rule change.⁵ On October 21, 2016, the Commission instituted proceedings to determine whether to approve or disapprove the proposed rule change.⁶The Commission has received no comments on the proposed rule change.

¹ 15 U.S.C. 78s(b)(1).

² 17 CFR 240.19b-4.

³ See Securities Exchange Act Release No. 78373 (July 20, 2016), 81 FR 48869.

⁴ 15 U.S.C. 78s(b)(2).

⁵ See Securities Exchange Act Release No. 78750, 81 FR 62233 (September 8, 2016).

⁶ See Securities Exchange Act Release No. 79131, 81 FR 74840 (October 27, 2016).

On January 17, 2017, the Exchange withdrew the proposed rule change (SR-NYSEArca-2016-97).

For the Commission, by the Division of Trading and Markets, pursuant to delegated authority.⁷
⁷ 17 CFR 200.30-3(a)(12).
Eduardo A. Aleman,
Assistant Secretary.

[FR Doc. 2017-01834 Filed 1-26-17; 8:45 am]

BILLING CODE 8011-01-P